SMALL BUSINESS ADMINISTRATION

[Disaster Declaration #13780]

California Disaster #CA-00213 Declaration of Economic Injury

AGENCY: U.S. Small Business Administration.

ACTION: Amendment 1.

SUMMARY: This is an amendment of the Economic Injury Disaster Loan (EIDL) declaration for the State of California, dated 09/26/2013.

Incident: Rim Fire.

Incident Period: 08/17/2013 and continuing through 10/24/2013.

DATES: Effective Date: 06/05/2014.

EIDL Loan Application Deadline Date: 06/26/2014.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW., Suite 6050, Washington, DC 20416.

SUPPLEMENTARY INFORMATION: The notice of the Economic Injury Disaster declaration for the State of California, dated 09/26/2013 is hereby amended to establish the incident period for this disaster as beginning 08/17/2013 and continuing through 10/24/2013.

All other information in the original declaration remains unchanged.

(Catalog of Federal Domestic Assistance Number 59002)

Dated: June 5, 2014.
Maria Contreras-Sweet,
Administrator.

[FR Doc. 2014-13715 Filed 6-11-14; 8:45 am]

BILLING CODE 8025-01-P